DEPARTMENT OF COMMERCE

National Oceanic and Atmospheric Administration

RIN 0648-XA340

Endangered Species; File No. 14344

AGENCY: National Marine Fisheries Service (NMFS), National Oceanic and Atmospheric Administration (NOAA), Commerce.

ACTION: Issuance of permit.

SUMMARY: Notice is hereby given that The University of California, Davis, Bodega Marine Laboratory, 2099 Westside Road, Bodega Bay, CA 94923 [Gary Cherr, Ph.D., Principal Investigator] has been issued a permit to take white abalone (Haliotis sorenseni) for purposes of scientific research and enhancement.

ADDRESSES: The permit and related documents are available for review upon written request or by appointment in the following offices:

Permits, Conservation and Education Division, Office of Protected Resources, NMFS, 1315 East-West Highway, Room 13705, Silver Spring, MD 20910; phone (301) 713-2289; fax (301) 713-0376;

Southwest Region, NMFS, 501 West Ocean Blvd., Suite 4200, Long Beach, CA 90802-4213; phone (562) 980-4001; fax (562) 980-4018.

FOR FURTHER INFORMATION CONTACT: Jennifer Skidmore or Colette Carins, (301) 713-2289.

SUPPLEMENTARY INFORMATION: On August 27, 2009, notice was published in the Federal Register (74 FR 43679) that a request for a scientific research and enhancement permit to take white abalone had been submitted by the above-named organization. The requested permit has been issued under the authority of the Endangered Species Act of 1973, as amended (ESA; 16 U.S.C. 1531 et seq.) and the regulations governing the taking, importing, and exporting of endangered and threatened species (50 CFR parts 222-226).

The permit authorizes the captive maintenance, breeding and outplanting of white abalone, Haliotis sorenseni. The purpose of this research is to overcome key barriers to captive propagation of the endangered white abalone, to identify limitations to reproduction in wild animals, to further understand disease processes and how to mitigate them, and the most successful means of restoration. In addition, white abalone will be maintained at participating aquariums for education and reserve holding. No white abalone will be taken from the wild; animals will come from existing captive broodstock and their progeny. A permit is issued five years.

Issuance of this permit, as required by the ESA, was based on a finding that such permit (1) was applied for in good faith, (2) will not operate to the disadvantage of such endangered or threatened species, and (3) is consistent with the purposes and policies set forth in section 2 of the ESA.

Dated: March 31, 2011.
P. Michael Payne,
Chief, Permits, Conservation and Education Division, Office of Protected Resources, National Marine Fisheries Service.

[FR Doc. 2011-8210 Filed 4-5-11; 8:45 am]

BILLING CODE 3510-22-P